DEPARTMENT OF DEFENSE

Department of the Navy

Meetings of the Naval Research Advisory Committee

AGENCY: Department of the Navy, DOD.

ACTION: Notice of closed meetings.

SUMMARY: The Naval Research Advisory Committee (NRAC) Panel on Venture Capital Technology will meet to review and access emerging standards and technologies in the technology sector that the Department of the Navy should incorporate in its technology roadmap for providing state-of-the-art capabilities to the Fleet/Force.

DATES: The meetings will be held on Wednesday, May 5, 2004, and Thursday, May 6, 2004, from 8 a.m. to 5 p.m.

ADDRESSES: The meetings will be held in the Pentagon, Room BF943, Washington, DC, on May 5, 2004, and at the Marine Corps Base Quantico on May 6, 2004.

FOR FURTHER INFORMATION CONTACT: Dennis Ryan, Program Director, Naval Research Advisory Committee, 800 North Quincy Street, Arlington, VA 22217-5660, (703) 696-6769.

SUPPLEMENTARY INFORMATION: This notice is provided in accordance with the provisions of the Federal Advisory Committee Act (5 U.S.C. App. 2). All sessions of the meetings will be devoted to executive sessions that will include discussions and technical examination of information related to venture capital technologies. These briefings and discussions will contain proprietary information and classified information that is specifically authorized under criteria established by Executive Order to be kept secret in the interest of national defense and are in fact properly classified pursuant to such Executive Order.

The proprietary, classified and non-classified matters to be discussed are so inextricably intertwined as to preclude opening any portion of the meetings. In accordance with 5 U.S.C. App. 2, section 10(d), the Secretary of the Navy has determined in writing that all sessions of the meetings must be closed to the public because they are concerned with matters listed in 5 U.S.C. section 552b(c)(1) and (4).

Dated: April 20, 2004.
S.A. Hughes,
Lieutenant Commander, Judge Advocate General's Corps, U.S. Navy, Federal Register Liaison Officer.

[FR Doc. 04-9367 Filed 4-22-04; 8:45 am]

BILLING CODE 3810-FF-P